DEPARTMENT OF THE INTERIOR

Bureau of Land Management

[NV-930-1920-ET-4662; NVN 82752; 7-08807]

Notice of Proposed Withdrawal and Opportunity for Public Meeting; Nevada

AGENCY: Bureau of Land Management, Interior.

ACTION: Notice.

SUMMARY: The Department of Energy (DOE) has filed an application with the Bureau of Land Management (BLM) requesting the Secretary of the Interior to withdraw 208,037 acres of public lands from surface entry and mining through December 27, 2015, to evaluate the lands for the potential construction, operation, and maintenance of a rail line for the transportation of spent nuclear fuel and high-level radioactive waste in the event the Nuclear Regulatory Commission authorizes a geologic repository at Yucca Mountain as provided for under the Nuclear Waste Policy Act of 1982, as amended. This notice segregates the lands from surface entry and mining for up to 2 years while various studies and analyses are made to support a final decision on the withdrawal application.

DATES: Comments and requests for a public meeting should be received on April 10, 2007.

ADDRESSES: Comments and meeting requests should be sent to the Nevada State Director, BLM, P.O. Box 12000, Reno, Nevada 89520-0006.

FOR FURTHER INFORMATION CONTACT: Dennis J. Samuelson, BLM Nevada State Office, 775-861-6532.

SUPPLEMENTARY INFORMATION: The DOE has filed an application with the BLM requesting the Secretary of the Interior to withdraw the following described public lands from settlement, sale, location, or entry under the general land laws, including the United States mining laws, but not from leasing under the mineral leasing laws, subject to valid existing rights:

Mount Diablo Meridian

A corridor 1-mile in width that contains a portion of, or is wholly encompassed within the following sections and/or quarter sections and government lots:

Caliente Rail Corridor (additional lands)

T. 1 S., R. 42 E.,

Sec. 36, E½SE¼.

T. 2 S., R. 42 E.,

Sec. 1;

Sec. 2, SE¼;

Sec. 10, SE¼;

Sec. 11;

Sec. 12, N½ and SW¼;

Sec. 13, NW¼NW¼;

Secs. 14 and 15 (except patented land);

Sec. 22 (except patented land);

Sec. 23, W½NW¼ and W½SW¼ (except patented land);

Sec. 26, W½NW¼ and W½SW¼ (except patented land);

Secs. 27 and 34 (except patented land);

Sec. 35, W½ (except patented land).

T. 3 S., R. 42 E.,

Sec. 3 (except patented land);

Sec. 10, E½ and NE¼NW¼;

Secs. 11 and 12 (except patented land);

Sec. 13, N½ and N½SE¼;

Sec. 14, NE¼ and NE¼NW¼.

T. 1 N., R. 43 E.,

Sec. 33, SE¼SW¼ and SE¼.

T. 1 S., R. 43 E.,

Sec. 4, W½;

Sec. 5, SE¼NE¼ and SE¼;

Sec. 8, E½;

Sec. 9, W½;

Sec. 13, SW¼SW¼;

Sec. 14, SW¼;

Sec. 16, W½;

Sec. 17, E½;

Sec. 20;

Sec. 22, SE¼;

Sec. 23, W½ and SE¼;

Sec. 24, W½NW¼;

Sec. 26;

Sec. 27, E½;

Sec. 29;

Sec. 30, E½ and SE¼SW¼;

Sec. 31;

Sec. 32, NW¼NE¼ and W½;

Sec. 34, E½;

Sec. 35;

Sec. 36, W½ and W½SE¼.

T. 2 S., R. 43 E.,

Sec. 1;

Sec. 2, E½ and SE¼SW¼;

Sec. 6;

Sec. 7, NW¼NW¼;

Sec. 8, E½SE¼;

Sec. 11;

Sec. 12, NW¼NE¼, NW¼, and W½SW¼;

Sec. 13, W½;

Sec. 14;

Sec. 17, SE¼SE¼ (except patented land);

Sec. 20, NE¼ and SE¼SW¼ (except patented land);

Sec. 23, E½ and E½NW¼;

Sec. 24, NW¼NE¼, W½, and W½SE¼;

Sec. 25;

Sec. 26, NE¼ and E½SE¼ (except patented land);

Sec. 29, E½NW¼ and E½SW¼ (except patented land);

Sec. 32, NE¼NW¼ (except patented land);

Sec. 35, NE¼;

Sec. 36, E½ and NW¼.

T. 3 S., R. 43 E.,

Sec. 4, SE¼ (except patented land);

Sec. 7, (except patented land);

Sec. 8, S½ (except patented land);

Sec. 9, NE¼NE¼ (except patented land);

Sec. 13, SE¼;

Sec. 16, W½NW¼ and W½SW¼;

Sec. 17 (except patented land);

Sec. 18, lots 1, 2, and 3, NE¼, E½NW¼, NE¼SW¼, and N½SE¼ (except patented land);

Sec. 19, E½ and SE¼SW¼;

Sec. 20;

Sec. 21, NW¼NW¼;

Sec. 27, SW¼;

Sec. 28, S½NW¼ and S½;

Sec. 29;

Sec. 30, E½, E½NW¼, and NE¼SW¼;

Sec. 31, NE¼NE¼;

Sec. 32, N½;

Sec. 33, N½, NE¼SW¼, and N½SE¼;

Sec. 34, W½.

T. 4 S., R. 43 E.,

Sec. 3, lot 3 and SE¼NW¼;

Sec. 13, W½NW¼ and W½SW¼;

Sec. 21, SE¼SE¼;

Sec. 23, E½;

Sec. 24, NW¼NW¼;

Sec. 28, SE¼SW¼;

Sec. 32, SE¼SE¼.

T. 5 S., R. 43 E.,

Sec. 20, E½NE¼ and E½SE¼;

Sec. 29, NE¼NE¼.

T. 6 S., R. 44 E., Unsurveyed

Sec. 7;

Sec. 18, E½, E½NW¼, and E½SW¼;

Sec. 19, E½ and E½NW¼;

Sec. 20;

Secs. 28 and 29;

Sec. 30, E½NE¼;

Sec. 32, NE¼NE¼;

Sec. 33.

T. 7 S., R. 44 E., Partially Surveyed

Sec. 3, W½NW¼ and W½SW¼;

Sec. 4;

Sec. 5, S½SW¼ and SE¼SE¼;

Secs. 8 and 9;

Sec. 10, SW¼NW¼ and SW¼;

Secs. 15, 16, and 22;

Sec. 23, W½ and SW¼SE¼;

Sec. 25, SW¼SW¼;

Sec. 26;

Sec. 34, NE¼NE¼;

Sec. 35;

Sec. 36, W½ and SW¼SE¼.

T. 8 S., R. 44 E.,

Sec. 1;

Sec. 13, E½;

Sec. 24, NE¼NE¼.

T. 8 S., R. 45 E.,

Sec. 6, W½SW¼;

Sec. 7, W½ and SW¼SE¼;

Sec. 17, SW¼SW¼;

Sec. 19;

Sec. 20, W½.

T. 1 N., R 46 E.,

Sec. 30, lot 3.

T. 9 S., R. 46 E.,

Sec. 8, SW¼SW¼;

Sec. 16, SW¼ and SW¼SE¼;

Sec. 22, NW¼ and SE¼;

Sec. 23, S½SW¼.

T. 10 S., R. 46 E.,

Sec. 11, NE¼.

T. 1 N., R. 47 E.,

Sec. 9, SE¼SE¼;

Sec. 31, NE¼SW¼.

T. 2 N., R. 47 E.,

Sec. 24, SE¼SE¼;

Sec. 35, SE¼SW¼.

T. 10 S., R. 47 E.,

Sec. 9, SE¼;

Sec. 10, S½ and SE¼NE¼;

Sec. 11, S½NE¼, S½NW¼, and S½;

Sec. 13, W½;

Sec. 14 (except patented land);

Sec. 15, NE¼;

Sec. 22, W½NE¼ (except patented land);

Sec. 23, E½ and N½NW¼ (except patented land);

Sec. 24, W½NW¼;

Sec. 26, W½NE¼ and NW¼SE¼.

T. 11 S., R. 47 E.,

Sec. 10, NE¼NE¼;

Sec. 23, NE¼NE¼;

Sec. 24, E½SW¼;

Sec. 25, NE¼SE¼;

Sec. 36, E½NE¼.

T. 2 N., R. 48 E.,

Sec. 8, SE¼SW¼;

Sec. 19, SE¼NW¼.

T. 3 N., R. 48 E.,

Sec. 23, SE¼SW¼;

Sec. 33, SE¼SE¼.

T. 3 N., R. 49 E.,

Sec. 7, SE¼NE¼.

T. 3 N., R. 50 E.,

Sec. 22, E½SE¼.

T. 1 S., R. 51 E.,

Sec. 10, E½NE¼;

Sec. 14, E½NW¼;

Sec. 23, NE¼NE¼;

Sec. 25, W½;

Sec. 36, E½NW¼ and E½SW¼.

T. 2 N., R. 51 E.,

Sec. 18, lot 2.

T. 2 S., R. 52 E.,

Sec. 24, N½NE¼ and N½NW¼.

T. 1 S., R. 53 E.,

Sec. 26, SE¼SE¼;

Sec. 35, SE¼NW¼.

T. 1 S., R. 54 E.,

Sec. 1, lot 1;

Sec. 13, NW¼SW¼;

Sec. 16, SE¼SW¼;

Sec. 20, NE¼ and SE¼NW¼;

Sec. 23, NW¼NE¼.

T. 1 N., R. 55 E.,

Sec. 22, SE¼NW¼;

Sec. 29, S½NW¼.

T. 1 N., R. 56 E.,

Sec. 12, NW¼SE¼;

Sec. 14, NW¼SW¼;

Sec. 18, SE¼NW¼.

T. 1 N., R. 57 E.,

Sec. 2, lots 1 to 4, inclusive, and S½NW¼;

Sec. 3, NE¼;

Sec. 4, S½NE¼;

Sec. 5, NE¼SW¼ and NW¼SE¼;

Sec. 7, lot 1.

T. 2 N., R. 57 E.,

Sec. 1, lots 1 to 4, inclusive, S½NE¼, S½NW¼, and SW¼;

Sec. 2;

Sec. 3, SE¼NE¼ and SE¼;

Sec. 9, SE¼SE¼;

Sec. 10;

Sec. 11, N½ and SW¼;

Sec. 14, NW¼NW¼;

Sec. 15;

Sec. 16, E½ and S½SW¼;

Sec. 20, E½ and SW¼;

Sec. 21;

Sec. 22, NW¼NE¼ and NW¼;

Sec. 29, N½;

Sec. 30, E½ and SE¼SW¼;

Sec. 31, lots 1 and 2, and E½NW¼;

Sec. 36, SE¼.

T. 3 N., R. 57 E.,

Sec. 25, SE¼SE¼;

Sec. 35, SE¼;

Sec. 36.

T. 2 N., R. 58 E.,

Sec. 6, lot 4;

Sec. 25, S½;

Sec. 26, S½;

Sec. 31, lots 3 and 4, E½SW¼, and SE¼;

Sec. 32, S½;

Secs. 33 and 34;

Sec. 35, N½, SW¼, and NW¼SE¼;

Sec. 36, NW¼NW¼.

T. 3. N., R. 58 E.,

Sec. 13, S½NE¼, S½NW¼, and S½;

Sec. 14, S½NE¼, S½NW¼, and S½;

Sec. 15, S½;

Sec. 16, SE¼SE¼;

Sec. 20, SE¼SW¼ and SE¼;

Secs. 21 and 22;

Sec. 23, N½;

Sec. 24, N½;

Sec. 27, NW¼NW¼;

Sec. 28, N½ and SW¼;

Sec. 29;

Sec. 30, lots 3 and 4, S½NE¼, E½SW¼, and SE¼;

Sec. 31;

Sec. 32, NW¼NE¼ and NW¼.

T. 2 N., R. 59 E.,

Sec. 5, SE¼SE¼;

Sec. 7, SE¼SE¼;

Sec. 20, NW¼NE¼;

Sec. 30, lots 1 and 2, and E½NW¼.

T. 3 N., R. 59 E.,

Sec. 14, NE¼ and SW¼;

Sec. 17, SW¼SW¼;

Sec. 18, lots 2, 3, and 4, E½SW¼, and SE¼;

Sec. 19, lots 1 and 2, and W½NE¼;

Sec. 33, NE¼ and E½SW¼.

T. 4 N., R. 60 E.,

Sec. 21, S½NE¼ and SE¼NW¼;

Sec. 31, SE¼NW¼.

T. 4. N., R. 61 E.,

Sec. 19, S½NE¼ and SE¼NW¼;

Sec. 20, SW¼SE¼.

T. 2 N., R. 62 E.,

Sec. 9, NE¼NE¼;

Sec. 15, NE¼SE¼;

Sec. 23, E½ and NE¼NW¼.

T. 1 N., R. 63 E.,

Sec. 22, SW¼SW¼.

T. 1 S., R. 64 E.,

Sec. 19, lot 1.

T 2 S., R. 65 E.,

Sec. 1, lots 3 and 4, and S½NW¼.

T. 1 S., R. 66 E.,

Sec. 35, S½SW¼ and S½SE¼.

T. 2 S., R. 67 E.,

Sec. 21, E½SW¼;

Sec. 24, NE¼SW¼.

T. 3 S., R. 67 E.,

Sec. 21, SE¼NW¼ and S½SW¼SE¼;

Sec. 26, E½NE¼.

T. 4 S., R. 68 E.,

Sec. 7, E½NW¼;

Sec. 8, W½SE¼;

Sec. 17, NW¼NE¼.

The additional lands for the Caliente Corridor aggregate 68,646 acres in Esmeralda, Lincoln, and Nye Counties.

Mina Rail Corridor

T. 15 N., R. 26 E.,

Sec. 26, S1/2SE1/4;

Sec. 35, lots 2, 3, and 4, E1/2NW1/4, NE1/4, and SE1/4;

Sec. 36.

T. 9 N., R. 31 E.,

Sec. 32, lots 1 to 4, inclusive, N1/2SW1/4, and N1/2SE1/4.

T. 8 N., R. 32 E.,

Sec. 7, lots 3 and 4, E1/2SW1/4;

Sec. 13, S1/2SW1/4 and S1/2SE1/4;

Sec. 14, S1/2SW1/4 and S1/2SE1/4;

Sec. 15, SW1/4 and S1/2SE1/4;

Sec. 16, S1/2NE1/4, W1/2, and SE 1/4;

Sec. 17, SE1/4SW1/4;

Sec. 19, N1/2NE1/4 and N1/2NW1/4;

Sec. 20, NE1/4 and N1/2NW1/4;

Sec. 21, N1/2 and N1/2SE1/4 (except patented land);

Sec. 22, N1/2, N1/2SW1/4, and SE1/4;

Secs. 23 and 24.

T. 8 N., R. 33 E.,

Sec. 17, S1/2SW1/4 and S1/2SE1/4;

Sec. 18, lot 4, SE1/4SW1/4, and S1/2SE1/4;

Secs. 19 to 24, inclusive;

Sec. 25, N1/2;

Sec. 26, N1/2;

Sec. 27, N1/2NE1/4 and N1/2NW1/4;

Sec. 28, N1/2NE1/4 and N1/2NW1/4;

Sec. 29, N1/2NE 1/4 and N1/2NW 1/4.

T. 7 N., R. 34 E.,

Sec. 1, lot 1 and SE1/4NE1/4.

T. 8 N., R. 34 E.,

Sec. 19, lots 2, 3, and 4, S1/2NE1/4, SE1/4NW1/4, W1/2SW1/4, and SE1/4;

Sec. 20, S1/2NE1/4, S1/2NW1/4, and S1/2;

Sec. 21, S1/2NE1/4, S1/2NW1/4, and S1/2;

Sec. 22, S1/2;

Sec. 23, S1/2;

Sec. 24, S1/2 (except patented land);

Sec. 25;

Sec. 26, N1/2, N1/2SW1/4, and N1/2SE1/4;

Sec. 27, N1/2, N1/2SW1/4, and N1/2SE1/4;

Sec. 28, N1/2 and N1/2SE1/4;

Sec. 29, N1/2;

Sec. 30, lots 1 and 2, NE1/4, and E1/2NW1/4;

Sec. 36, E1/2 and N1/2NW1/4.

T. 4 N., R. 35 E.,

Sec. 1, N1/2 and SE1/4;

Sec. 2, NE1/4;

Sec. 12, N1/2NE1/4.

T. 5 N., R. 35 E.,

Sec. 1, S1/2NE1/4, S1/2NW1/4, and S1/2;

Sec. 2;

Sec. 3, lots 1, 2, and 3, S1/2NE1/4, and SE1/4;

Sec. 11, NE1/4 and N1/2NW1/4;

Sec. 12, E1/2, NW1/4, and E1/2SW1/4;

Sec. 13, NE1/4 and E1/2SE1/4;

Sec. 24, E1/2;

Sec. 25, E1/2, E1/2NW1/4, and SW1/4;

Sec. 36.

T. 6 N., R. 35 E.,

Sec. 4, lot 4, SW1/4NW1/4, SW1/4, and S1/2SE1/4;

Sec. 5;

Sec. 8 (except patented lands);

Sec. 9;

Sec. 10, S1/2NW1/4 and SW1/4;

Sec. 15, W1/2 and W1/2SE1/4;

Sec. 16, E1/2, NW1/4, and E1/2SW1/4;

Sec. 21, E1/2;

Sec. 22, W1/2NE1/4, W1/2, and W1/2SE1/4;

Sec. 27, W1/2NE1/4, W1/2, and W1/2SE1/4;

Sec. 28, NE1/4 and N1/2SW1/4;

Sec. 33, E1/2 (except patented land);

Sec. 34;

Sec. 35, S1/2SW1/4.

T. 7 N., R. 35 E.,

Sec. 5, lot 4, S1/2NW1/4, and SW1/4;

Sec. 6;

Sec. 7, N1/2NE1/4, E1/2NW1/4, and SE1/4;

Sec. 8, W1/2NE1/4, W1/2, and SE1/4;

Sec. 16, W1/2NW1/4 and SW1/4;

Sec. 17;

Sec. 18, E1/2NE1/4;

Sec. 20;

Sec. 21, W1/2;

Sec. 28, NW1/4 and W1/2SW1/4;

Sec. 29;

Sec. 30, S1/2SE1/4;

Sec. 31, E1/2NE1/4;

Sec. 32;

Sec. 33, W1/2SW1/4.

T. 8 N., R. 35 E.,

Sec. 30, lots 1 to 4, inclusive, E1/2NW1/4, E1/2SW1/4, and W1/2SE1/4 (except patented land);

Sec. 31 (except patented land).

T. 3 N., R. 36 E.,

Sec. 1;

Sec. 12, E1/2, E1/2NW1/4, and E1/2SW1/4;

Sec. 13, E1/2;

Sec. 24, E1/2;

Sec. 25, N1/2NE1/4.

T. 4 N., R. 36 E., Unsurveyed

Sec. 5, SW1/4;

Sec. 6;

Sec. 7, N1/2 and SE1/4;

Sec. 8, W1/2 and SE1/4;

Sec. 9, S1/2SW1/4;

Sec. 15, SW1/4;

Sec. 16, W1/2 and SE1/4;

Sec. 17;

Sec. 18, NE1/4;

Sec. 20, NE1/4;

Sec. 21, N1/2 and SE1/4;

Sec. 22;

Sec. 23, S1/2;

Sec. 25, W1/2;

Sec. 26;

Sec. 27, N1/2;

Sec. 35, N1/2 and SE1/4;

Sec. 36.

T. 5 N., R. 36 E., Unsurveyed

Sec. 6, SW¼;

Sec. 7, W½;

Sec. 18, W½;

Sec. 19, W½;

Sec. 30, W½;

Sec. 31, W½.

T. 2 N., R. 37 E.,

Sec. 4, W½SW¼;

Sec. 5;

Sec. 6, lots 1 and 2, S½NE¼, and E½SE¼;

Sec. 8;

Sec. 9, W½NW¼, SW¼, and S½SE¼;

Sec. 13, S½NE¼, S½NW¼, and S½;

Sec. 14, S½NE¼ and S½;

Sec. 15, NW¼ and S½;

Sec. 16;

Sec. 17, N½NE¼, SE¼NE¼, E½NW¼, and E½SE¼;

Sec. 21, NE¼;

Sec. 22, N½, N½SW¼, and N½SE¼;

Sec. 23, N½ and N½SW¼;

Sec. 24, N½.

T. 3 N., R. 37 E., Unsurveyed

Sec. 6, W½;

Sec. 7, W½ and E½SE¼;

Sec. 18, W½NE¼, W½, and W½SE¼;

Sec. 19;

Sec. 29, W½;

Sec. 30;

Sec. 31, E½ and E½NW¼;

Sec. 32, W½NE¼, W½, and W½SE¼.

T. 4 N., R. 37 E., Unsurveyed

Sec. 31, S½SW¼.

T. 1 N., R. 38 E., Unsurveyed

Sec. 3, W½NW¼ and SW¼;

Sec. 4;

Sec. 5, E½NE¼;

Sec. 9, E½ and E½NW¼;

Sec. 10;

Sec. 11, SW¼;

Sec. 14, W½NE¼, W½, and SE¼;

Sec. 15, E½ , NW¼, and N½SW¼;

Sec. 16, N½NE¼;

Sec. 22, NE¼;

Sec. 23;

Sec. 24, W½ and W½SE¼;

Sec. 25;

Sec. 26, NE¼ and E½SE¼;

Sec. 36, NE¼ and N½NW¼.

T. 2 N., R. 38 E., Unsurveyed

Sec. 13, S½SW¼ and SE¼;

Sec. 16, S½NW¼ and SW¼;

Secs. 17 and 18;

Sec. 19, N½;

Sec. 20, E½ and NW¼;

Sec. 21, W½ and SE¼;

Sec. 22, S½;

Sec. 23, NE¼, S½NW¼, and S½;

Sec. 24;

Sec. 25, N½NW¼;

Sec. 26, N½;

Sec. 27, N½;

Sec. 28;

Sec. 29, E½;

Sec. 32, E½;

Sec. 33.

T. 1 N., R. 38.2 E., Unsurveyed

Sec. 30, S½NW¼, SW¼, and S½SE¼;

Sec. 31, N½, N½SW¼, and SE¼;

Sec. 32, W½ and SE¼.

T. 2 N., R. 38.2 E.,

Sec. 4;

Sec. 5, S½SE¼;

Sec. 7, S½SE¼;

Sec. 8, E½, S½NW¼, and SW¼;

Sec. 9;

Sec. 16, N½NW¼;

Sec. 17, N½, SW¼, and N½SE¼;

Sec. 18;

Sec. 19, N½ and N½SW¼;

Sec. 20, N½NW¼.

T. 1 S., R. 39 E.,

Sec. 4, lots 3 and 4, S½NW¼, and S½;

Sec. 5;

Sec. 6, lots 1 and 2, and S½NE¼;

Sec. 8, NE¼;

Sec. 9;

Sec. 10, W½NW¼ and SW¼;

Sec. 14, W½SW¼;

Sec. 15;

Sec. 16, E½ and E½NW¼;

Sec. 21, N½NE¼;

Sec. 22;

Sec. 23, W½NW¼ and W½SW¼;

Sec. 26, W½NW¼ and W½SW¼;

Sec. 27, E½, E½NW¼, and E½SW¼;

Sec. 34, E½, E½NW¼, and SW¼;

Sec. 35, W½.

T. 2 N., R. 39 E., Unsurveyed

Sec. 4, NW¼;

Sec. 5, N½ and SW¼;

Sec. 6;

Sec. 7, N½ and SW¼.

T. 2 S., R. 39 E.,

Sec. 2, lot 4, S½NW¼, and SW¼;

Sec. 3, lots 1 to 4, inclusive, S½NE¼, S½NW¼, E½SW¼, and SE¼;

Sec. 10, E½, E½NW¼, and E½SW¼;

Sec. 11, W½;

Sec. 14, W½NE¼, W½, and W½SE¼;

Sec. 15, E½ and E½NW¼;

Sec. 22 (except patented land);

Sec. 23, W½NE¼, W½, and W½SE¼;

Sec. 25, S½SW¼;

Sec. 26;

Sec. 27, E½;

Sec. 34, N½NE¼;

Sec. 35;

Sec. 36, W½ and SE¼.

T. 3 N., R. 39 E.,

Sec. 13, S½SE¼;

Sec. 22, S½SE¼;

Sec. 23, S½NE¼ and S½;

Sec. 24;

Sec. 25, N½ and N½SW¼;

Secs. 26 and 27;

Sec. 28, S½NE¼ and S½;

Sec. 29, S½SE¼;

Sec. 31, S½SW¼ and SE¼;

Secs. 32 and 33;

Sec. 34, N½ and N½SW¼;

Sec. 35, N½NW¼.

T. 3 S., R. 39 E.,

Sec. 1;

Sec. 2, lots 1 and 2, S½NE¼, and E½SE¼;

Sec. 12, NE¼.

T. 2 S., R. 40 E.,

Sec. 22, S½SW¼ and SE¼;

Sec. 23, S½ and S½NE¼;

Sec. 24, NE¼, S½NW¼, and S½;

Sec. 25, N½;

Sec. 26, N½, N½SW¼, and N½SE¼;

Sec. 27;

Sec. 28, lot 1 and lots 3 to 8, inclusive, and SW¼;

Sec. 29, S½SE¼;

Sec. 31, E½SW¼ and SE¼;

Sec. 32;

Sec. 33, N½, SW¼, and N½SE¼;

Sec. 34, NW¼.

T. 3 N., R. 40 E.,

Sec. 8, S½SE¼;

Sec. 9, S½NE¼ and S½;

Sec. 10 (except patented land);

Sec. 11 (except patented land);

Sec. 12, S½NE¼, S½NW¼, and S½;

Sec. 13, N½ and N½SE¼;

Sec. 14, N½ (except patented land);

Sec. 15, N½ and N½SW¼;

Secs. 16 and 17;

Sec. 18, lot 4, S½NE¼, E½SW¼, and SE¼;

Sec. 19;

Sec. 20, N½ and N½SW¼;

Sec. 21, N½NW¼;

Sec. 30, lot 1 and E½NW¼.

T. 3 S., R. 40 E.,

Sec. 4, lot 4;

Sec. 5, lots 1 to 4, inclusive, S½NE¼, S½NW¼, and SW¼;

Sec. 6;

Sec. 7, lot 1, E½NW¼, and N½NE¼.

T. 2 S., R. 40.2 E., Unsurveyed

Sec. 4, S½SE¼;

Sec. 8, E½ and SW¼;

Sec. 9;

Sec. 16, N½;

Sec. 17;

Sec. 18, S½NE¼, S½SW¼, and SE¼;

Sec. 19;

Sec. 20, NE¼ and W½;

Sec. 30, N½.

T. 1 N., R. 41 E.,

Sec. 1;

Sec. 2, lots 1 and 2, S½NE¼, and E½SE¼;

Sec. 12, N½, E½SW¼, and SE¼;

Sec. 13, E½.

T. 2 N., R. 41 E.,

Sec. 3, lots 2, 3, and 4, S½NE¼, S½NW¼, and S½;

Sec. 4, lots 1, 2, and 3, S½NE¼, S½NW¼, and SE¼;

Sec. 9, NE¼;

Sec. 10;

Sec. 11, W½;

Sec. 14;

Sec. 15, E½ and E½NW¼;

Sec. 22, N½NE¼;

Sec. 23;

Sec. 24, W½NW¼ and W½SW¼;

Sec. 25, W½;

Sec. 26, E½, NW¼, and E½SW¼;

Sec. 35, E½ and E½NW¼;

Sec. 36, W½NE¼, W½, and SE¼.

T. 2 S., R. 41 E.,

Sec. 3, W½SW¼;

Sec. 4, S½NE¼, S½NW¼, and S½;

Sec. 5, S½NE¼ and S½;

Sec. 6, lots 10 to 16, inclusive, and S½SE¼;

Secs. 7, 8, and 9;

Sec. 10, W½NW¼ and W½SW¼;

Sec. 15, W½NW¼;

Sec. 16;

Sec. 17, E½ and SW¼;

Sec. 18, N½NE¼;

Sec. 19, E½NE¼ and E½SE¼;

Sec. 20;

Sec. 21, NW¼ and N½SW¼;

Sec. 29, NE¼, W½, and W½SE¼;

Sec. 30, E½;

Sec. 31, lots 8 to 11, inclusive, and E½;

Sec. 32, N½NE¼ and W½.

T. 3 N., R. 41 E.,

Sec. 7, lots 3 and 4, E½SW¼, and SE¼;

Sec. 8, SW¼;

Sec. 16, S½SW¼; secs. 17 and 18;

Sec. 19, N½NE¼;

Sec. 20;

Sec. 21, W½ and W½SE¼;

Sec. 27, S½SW¼;

Sec. 28;

Sec. 29, E½;

Sec. 32, N½NE¼;

Sec. 33;

Sec. 34, W½ and S½SE¼.

T. 3 S., R. 41 E.,

Sec. 4, lot 4 and S½NW¼;

Sec. 5;

Sec. 6, lot 1, SE¼NE¼, and SE¼;

Sec. 7, E½;

Sec. 8, W½NE¼, W½, and W½SE¼;

Sec. 16, SW¼ and S½SE¼ (except patented land);

Sec. 17;

Sec. 18, E½;

Sec. 19, N½NE¼;

Sec. 20, N½ and SE¼;

Sec. 21;

Sec. 22, S½NE¼, W½, and SE¼;

Sec. 23, S½;

Sec. 24, S½;

Sec. 25;

Sec. 26, N½, N½SW¼, and N½SE¼;

Sec. 27, N½;

Sec. 28, NE ¼.

T. 1 N., R. 42 E.,

Sec. 6, lots 6 and 7, and E½SW¼;

Sec. 7, lots 1 to 4, inclusive, E½NW¼, E½SW¼, and W½SE¼;

Sec. 17, SW¼;

Sec. 18;

Sec. 19, lot 1, E½NW¼, and E½;

Sec. 20;

Sec. 21, SW¼;

Sec. 28, W½NE¼, W½, and SE¼;

Sec. 29;

Sec. 30, N½NE¼;

Sec. 32, NE¼;

Sec. 33;

Sec. 34, W½ and W½SE¼.

T. 1 S., R. 42 E.,

Sec. 3;

Sec. 4, lots 1 and 2, S½NE¼, and SE¼;

Sec. 9, E½NE¼;

Sec. 10;

Sec. 11, W½SW¼;

Sec. 14, W½NW¼ and W½SW¼;

Secs. 15 and 22;

Sec. 23, W½;

Sec. 26, W½;

Sec. 27, E½, E½NW¼, and E½SW¼;

Sec. 34, E½, E½NW¼, and E½SW¼;

Sec. 35, W½.

T. 2 S., R. 42 E.,

Sec. 2, lots 3 and 4, S½NW¼, and W½SW¼;

Sec. 3, lots 1, 2, and 3, S½NE¼, S½NW¼, E½SW¼, and SE¼;

Sec. 10;

Sec. 11, W½NW¼ and W½SW¼;

Sec. 14, W½NW¼ and W½SW¼ (except patented land);

Secs. 15 and 22 (except patented land);

Sec. 23, W½NW¼ and W½SW¼ (except patented land);

Sec. 26, W½NW¼ and W½SW¼ (except patented land);

Secs. 27 and 34 (except patented land);

Sec. 35, W½NW¼ and W½SW¼ (except patented land).

T. 3 S., R. 42 E.,

Sec. 3, lots 1, 2, and 3, S½NE¼, S½NW¼, E½SW¼, and SE¼ (except patented land);

Sec. 10, NE¼ and E½SE¼ (except patented land);

Secs. 11 and 12 (except patented land);

Sec. 13, N½ (except patented land);

Sec. 14, N½NE¼ (except patented land);

Sec. 19, lots 4 to 9 inclusive, and S½SE¼;

Sec. 20, S½SW¼ and S½SE¼;

Sec. 28, W½NE¼, W½, and SE¼;

Secs. 29 and 30;

Sec. 32, N½NE¼ and S½SE¼;

Sec. 33.

T. 4 S., R. 42 E.,

Sec. 4;

Sec. 5, lot 1, S½NE¼, and SE¼;

Sec. 8, E½, E½NW¼, and E½SW¼;

Sec. 9, W½NE¼ and W½;

Sec. 16, W½;

Sec. 17;

Sec. 18, S½SE¼;

Sec. 19, E½NE¼ and E½SE¼;

Sec. 20;

Sec. 23, S½SW¼ and S½SE¼;

Sec. 24, S½SW¼ and S½SE¼;

Secs. 25 and 26;

Sec. 27, NE¼ and S½;

Sec. 28, W½NW¼, W½SW¼, and SE¼;

Secs. 29, 32, and 33;

Sec. 34, N½, SW¼, and N½SE¼;

Sec. 35, N½NE¼ and NW¼.

T. 5 S., R. 42 E., Unsurveyed

Sec. 4, N½NE¼ and N½NW¼;

Sec. 5, N½NE¼.

T. 3 S., R. 43 E.,

Sec. 7 (except patented land);

Sec. 8, S½ (except patented land);

Sec. 16, W½NW¼ and W½SW¼;

Secs. 17 and 18 (except patented land);

Sec. 19, E½ and E½SW¼;

Sec. 20;

Sec. 21, N½NW¼;

Sec. 27, S½;

Sec. 28, S½NE¼, S½NW¼, and S½;

Sec. 29;

Sec. 30, E½ and E½NW¼;

Sec. 31, N½NE¼;

Sec. 32, N½;

Sec. 33, N½ and SE¼;

Sec. 34;

Sec. 35, E½NW¼ and E½SW¼.

T. 5 S., R. 43 E., Unsurveyed

Sec. 6;

Sec. 7, E½ and E½NW¼;

Sec. 18, N½NE¼.

The lands in the Mina Corridor aggregate 139,391 acres in Esmeralda, Lyon, and Mineral Counties.

Public Land Order (PLO) No. 7653, 70 FR 76854-76858 (December 28, 2005), withdrew approximately 308,600 acres of public lands from surface entry and mining for the purpose of evaluating a suite of alternative rail alignments along the Caliente Corridor, as described in the DOE's Final Environmental Impact Statement for a Geologic Repository for the Disposal of Spent Fuel and High-Level Radioactive Waste at Yucca Mountain, Nye County, Nevada, February 2002. The evaluation is for the potential construction, operation, and maintenance of a rail line which would be used to transport spent nuclear fuel and high-level radioactive waste to the proposed Yucca Mountain Repository as part of the DOE's responsibility under the Nuclear Waste Policy Act, as amended, 42 U.S.C. 10101 et seq.

The DOE has identified an additional 68,646 acres of public lands for evaluation along the Caliente Corridor. Since PLO No. 7653 can not be amended to add lands, the DOE has filed this new withdrawal application for those additional lands.

The DOE's withdrawal application also includes 139,391 acres of public lands for the purpose of evaluating the potential construction, operation, and maintenance of a rail line along a suite of alternative rail alignments referred to by the DOE as the “Mina Route.” The width of the withdrawal is 1 mile.

The expiration date for this proposed withdrawal would be the same as the expiration date for PLO No. 7653, which is December 27, 2015.

The use of a right-of-way, interagency agreement, or cooperative agreement would not adequately constrain non-discretionary uses that could irrevocably affect the evaluation of these lands for a potential rail line alignment.

There are no suitable alternative sites, since the lands described identify the alternative alignments that need to be evaluated.

No water rights will be needed to fulfill the purpose of the withdrawal.

Possible mineral deposits present in the above-described land areas include some locatable and salable minerals.

For a period of 90 days from the date of publication of this notice, all persons who wish to submit comments, suggestions, or objections in connection with the proposed withdrawal may present their views in writing to the BLM Nevada State Director.

Comments, including names and street addresses of respondents, will be available for public review at the BLM Nevada State Office, 1340 Financial Blvd., Reno, Nevada, during regular business hours, 7:30 a.m. to 4:30 p.m., Monday through Friday, except holidays. Individual respondents may request confidentiality. If you wish to withhold your name or address from public review or from disclosure under the Freedom of Information Act, you must state this prominently at the beginning of your comments. Such requests will be honored to the extent allowed by the law. All submissions from organizations or businesses, and from individuals identifying themselves as representatives or officials of organizations or businesses, will be made available for public inspection in their entirety.

Notice is hereby given that in addition and subsequent to the 90-day public comment period mentioned above, there will be at least one public meeting in connection with the proposed withdrawal to be announced at a later date. A notice of the time, place, and date will be published in the Federal Register and a local newspaper at least 30 days before the scheduled date of a meeting.

This withdrawal proposal will be processed in accordance with the regulations set forth in 43 CFR part 2300.

For a period of 2 years from the date of publication of this notice in the Federal Register, the lands described above will be segregated as specified above unless the application is denied or cancelled or the withdrawal is approved prior to that date.

Licenses, permits, cooperative agreements, or discretionary land use authorizations of a temporary nature which will not significantly impact the purpose of the proposed withdrawal may be allowed with the approval of the authorized officer of the BLM during the segregative period.

(Authority: 43 CFR 2310.3-1(a))

Dated: October 30, 2006.
Margaret L. Jensen,
Deputy State Director, Natural Resources, Lands, and Planning.

[FR Doc. E7-84 Filed 1-9-07; 8:45 am]

BILLING CODE 4310-HC-P